DEPARTMENT OF TRANSPORTATION

Surface Transportation Board

[Docket No. FD 35683]

ABE Fairmont, LLC—Acquisition and Operation Exemption—BNSF Railway Company

ABE Fairmont, LLC (ABE), a Class III rail carrier, has filed a verified notice of exemption under 49 CFR 1150.41 to acquire from BNSF Railway Company (BNSF) and to operate an approximately 1.0-mile rail line between BNSF milepost 1.7 and a point of connection with BNSF's main line at milepost 114.73, at or near Fairmont, Fillmore County, Neb.¹

¹ ABE was previously granted authority to acquire and operate an approximately two-mile rail line between a point of connection with BNSF at BNSF's milepost 1.7 and the north property line of County Road H, at or near Fairmont. See ABE Fairmont, LLC—Acquis. and Operation Exemption—Fillmore Western Railway Company, FD 35673 (STB served Sept. 21, 2012). ABE states the line it acquired in that proceeding connects with the line it seeks to acquire here, forming an approximately three-mile north-south branch line between Fairmont and BNSF's east-west main line.

The transaction may be consummated on or after November 14, 2012 (30 days after the notice of exemption was filed).

ABE certifies that its projected annual revenues as a result of this transaction will not exceed those that would qualify it as a Class III rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed no later than November 7, 2012 (at least 7 days before the exemption becomes effective).

An original and 10 copies of all pleadings, referring to Docket No. FD 35683, must be filed with the Surface Transportation Board, 395 E Street SW., Washington, DC 20423-0001. In addition, a copy of each pleading must be served on Thomas F. McFarland, 208 South LaSalle St., Suite 1890, Chicago, IL 60604.

Board decisions and notices are available on our Web site at www.stb.dot.gov.

Decided: October 25, 2012.
By the Board, Rachel D. Campbell, Director, Office of Proceedings.
Derrick A. Gardner,
Clearance Clerk.

[FR Doc. 2012-26780 Filed 10-30-12; 8:45 am]

BILLING CODE 4915-01-P